DEPARTMENT OF COMMERCE

Foreign-Trade Zones Board

Docket 44-2005

Foreign-Trade Zone 70 -- Detroit, Michigan, Expansion of Manufacturing Authority -- Subzone 70T, Marathon Petroleum Company LLC, Detroit, Michigan

An application has been submitted to the Foreign-Trade Zones (FTZ) Board (the Board) by the Greater Detroit Foreign Trade Zone, Inc., grantee of FTZ 70, requesting authority on behalf of Marathon Petroleum Company LLC (Marathon), to expand the scope of manufacturing activity conducted under zone procedures within Subzone 70T at the Marathon oil refinery complex in Wayne County (Detroit area), Michigan. The application was submitted pursuant to the Foreign-Trade Zones Act, as amended (19 U.S.C. 81a-81u), and the regulations of the Board (15 CFR part 400). It was formally filed on September 19, 2005.

Subzone 70T (246 acres, 400 - 500 employees) consists of 4 sites and connecting pipelines in Wayne County (Detroit area), Michigan: Site 1 (183 acres)--main refinery complex (75,000 BPD) located at 1300 South Fort Street on the Detroit River, Detroit and Melvindale ; Site 2 (15 acres)--asphalt storage facility located at 301 South Fort Street on the Rouge River, 1 mile east of the refinery, Detroit; Site 3 (4 acres)--finished product storage facility, located on Fordson Island in the Rouge River, 2 miles northeast of the refinery, Dearborn, and; Site 4 (44 acres)--underground LPG storage cavern, located at 24400 Allen Road, 12 miles south of the refinery, Woodhaven. The expansion request involves the modification to a crude unit that would increase the overall crude distillation capacity to 105,000 BPD. No additional feedstocks or products have been requested.

Zone procedures would exempt the increased production from Customs duty payments on the foreign products used in its exports. On domestic sales of the increased production, the company would be able to choose the finished product duty rate on certain petrochemical feedstocks and refinery by-products (duty-free) by admitting foreign crude oil in non-privileged foreign status. The duty rates on crude oil range from 5.25 cents/barrel to 10.5 cents/barrel. The application indicates that the savings from zone procedures help improve the refinery's international competitiveness.

In accordance with the Board's regulations, a member of the FTZ staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building - Suite 4100W, 1099 14th St. NW, Washington, D.C. 20005; or

2. Submissions Via the U.S. Postal Service: Foreign-Trade-Zones Board, U.S. Department of Commerce, FCB - Suite 4100W, 1401 Constitution Ave. NW, Washington, D.C. 20230.

The closing period for their receipt is November 28, 2005. Rebuttal comments in response to material submitted during the foregoing period may be submitted during the subsequent 15-day period (to December 13, 2005).

A copy of the application and accompanying exhibits will be available for public inspection at the Office of the Foreign-Trade Zones Board's Executive Secretary at address Number 1 listed above, and at the U.S. Department of Commerce Export Assistance Center, 211 West Fort Street, Suite 2220, Detroit, MI 48226.

Dated: September 22, 2005.
Dennis Puccinelli,
Executive Secretary.

[FR Doc. 05-19505 Filed 9-28-05; 8:45 am]

BILLING CODE 3510-DS-S